DEPARTMENT OF TRANSPORTATION

Federal Aviation Administration

14 CFR Part 39

[Docket No. FAA-2005-22427; Directorate Identifier 2004-NM-263-AD; Amendment 39-14373; AD 2005-23-15]

RIN 2120-AA64

Airworthiness Directives; British Aerospace Model BAC 1-11 200 and 400 Series Airplanes

AGENCY: Federal Aviation Administration (FAA), Department of Transportation (DOT).

ACTION: Final rule.

SUMMARY: The FAA is adopting a new airworthiness directive (AD) for all British Aerospace Model BAC 1-11 200 and 400 series airplanes. This AD requires revising the airplane flight manual (AFM) to contain applicable AFM amendments, which advise the flightcrew of information pertaining to safely operating the fuel system. The AD also requires revising the FAA-approved maintenance program to include certain repetitive maintenance tasks intended to improve the safety of the fuel system. This AD results from fuel system reviews conducted by the manufacturer. We are issuing this AD to prevent potential ignition sources inside the fuel system, which, in combination with flammable fuel vapors, could result in a fuel tank explosion and consequent loss of the airplane.

DATES: This AD becomes effective December 21, 2005.

The Director of the Federal Register approved the incorporation by reference of a certain publication listed in the AD as of December 21, 2005.

ADDRESSES: You may examine the AD docket on the Internet at http://dms.dot.gov or in person at the Docket Management Facility, U.S. Department of Transportation, 400 Seventh Street, SW., Nassif Building, room PL-401, Washington, DC.

Contact British Aerospace, Service Support, Airbus Limited, P.O. Box 77, Bristol BS99 7AR, England, for service information identified in this AD.

FOR FURTHER INFORMATION CONTACT: Todd Thompson, Aerospace Engineer, International Branch, ANM-116, Transport Airplane Directorate, FAA, 1601 Lind Avenue, SW., Renton, Washington 98055-4056; telephone (425) 227-1175; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all British Aerospace Model BAC 1-11 200 and 400 series airplanes. That NPRM was published in the Federal Register on September 16, 2005 (70 FR 54671). That NPRM proposed to require revising the airplane flight manual (AFM) to contain applicable AFM amendments, which advise the flightcrew of information pertaining to safely operating the fuel system. The NPRM also proposed to require revising the FAA-approved maintenance program to include certain repetitive maintenance tasks intended to improve the safety of the fuel system.

Clarification of Alternative Method of Compliance (AMOC) Paragraph

We have revised this action to clarify the appropriate procedure for notifying the principal inspector before using any approved AMOC on any airplane to which the AMOC applies.

Comments

We provided the public the opportunity to participate in the development of this AD. We received no comments on the NPRM or on the determination of the cost to the public.

Conclusion

We have carefully reviewed the available data and determined that air safety and the public interest require adopting the AD with the change described previously. We have determined that this change will neither increase the economic burden on any operator nor increase the scope of the AD.

Costs of Compliance

The following table provides the estimated costs for U.S. operators to comply with this AD.

Estimated Costs
Action | Work hours | Average labor rate per hour | Cost per airplane | Number of U.S.- registered airplanes | Fleet cost
AFM Revision | 1 | $65 | $65 | 11 | $715
Maintenance Program Revision | 1 | 65 | 65 | 11 | 715

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-23-15 British Aerospace Airbus Limited: Amendment 39-14373. Docket No. FAA-2005-22427; Directorate Identifier 2004-NM-263-AD.

Effective Date

(a) This AD becomes effective December 21, 2005.

Affected ADs

(b) None.

Applicability

(c) This AD applies to all British Aerospace Model BAC 1-11 200 and 400 series airplanes, certificated in any category.

Unsafe Condition

(d) This AD results from fuel system reviews conducted by the manufacturer. We are issuing this AD to ensure that the flightcrew and maintenance personnel are advised of procedures pertaining to the safety of the fuel system. These procedures are needed to prevent potential ignition sources inside the fuel system, which, in combination with flammable fuel vapors, could result in a fuel tank explosion and consequent loss of the airplane.

Compliance

(e) You are responsible for having the actions required by this AD performed within the compliance times specified, unless the actions have already been done.

Airplane Flight Manual and Maintenance Program Revisions

(f) Within 3 months after the effective date of this AD, do the actions specified in paragraphs (f)(1) and (f)(2) of this AD to improve the safety of the fuel system, in accordance with the Accomplishment Instructions of Airbus UK BAC One-Eleven Alert Service Bulletin 28-A-PM6057, Issue 1, dated May 10, 2004.

(1) Revise the airplane flight manual to include the applicable amendments advising the flightcrew of appropriate procedures to check for proper operation of the fuel system, and to address tripped circuit breakers, failure of a fuel pump in flight, and operations in a low-fuel situation, as specified in Table 2 (under Section 4.11) of the service bulletin.

Note 1: The actions required by paragraph (f)(1) of this AD may be done by inserting a copy of the applicable advance amendment bulletins (AABs) specified in Table 2 of Airbus UK BAC One-Eleven Alert Service Bulletin 28-A-PM6057, Issue 1, dated May 10, 2004, into the AFM. When information identical to that in the applicable AABs has been included in the general revisions of the AFM, the AABs no longer need to be inserted into the AFM.

(2) Revise the FAA-approved maintenance program to include all repetitive maintenance tasks specified in Table 1 (under Section 4.10.2.) of the service bulletin. Then, thereafter, comply with the requirements of these maintenance tasks at the interval specified in Table 1 of the service bulletin; except for airplanes that operate fewer than a total of 1,250 flight hours per year, accomplish the requirements of these maintenance tasks at the earlier of the times specified in columns 2 and 3 of Table 1 of the service bulletin. Where Table 1 of the service bulletin specifies a repetitive interval in “hours,” for the purposes of this AD, this means “flight hours.” Any applicable corrective actions must be done before further flight.

Note 2: After revising the maintenance program to include the required periodic maintenance tasks according to paragraph (f)(2) of this AD, operators do not need to make a maintenance log entry to show compliance with this AD every time those maintenance tasks are accomplished thereafter.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) British airworthiness directive G-2004-0012, dated June 21, 2004, also addresses the subject of this AD.

Material Incorporated by Reference

(i) You must use Airbus UK BAC One-Eleven Alert Service Bulletin 28-A-PM6057, Issue 1, dated May 10, 2004, to perform the actions that are required by this AD, unless the AD specifies otherwise. The Director of the Federal Register approved the incorporation by reference of this document in accordance with 5 U.S.C. 552(a) and 1 CFR part 51. Contact British Aerospace, Service Support, Airbus Limited, P.O. Box 77, Bristol BS99 7AR, England, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on November 7, 2005.
Kalene C. Yanamura,
Acting Manager, Transport Airplane Directorate, Aircraft Certification Service.

[FR Doc. 05-22592 Filed 11-15-05; 8:45 am]

BILLING CODE 4910-13-P